DEPARTMENT OF TRANSPORTATION

Federal Aviation Administration

14 CFR Part 39

[Docket No. FAA-2005-21598; Directorate Identifier 2005-NM-121-AD; Amendment 39-14159; AD 2005-13-22]

RIN 2120-AA64

Airworthiness Directives; Empresa Brasileira de Aeronautica S.A. (EMBRAER) Model EMB-135 Airplanes, and Model EMB-145, -145ER, -145MR, -145LR, -145XR, -145MP, and -145EP Airplanes

AGENCY: Federal Aviation Administration (FAA), Department of Transportation (DOT).

ACTION: Final rule; correction.

SUMMARY: The FAA is correcting a typographical error in an existing airworthiness directive (AD) that was published in the Federal Register on June 22, 2005 (70 FR 36011). The error resulted in an incomplete listing of the affected airplanes. This AD applies to all EMBRAER Model EMB-135 airplanes, and all Model EMB-145, -145ER, -145MR, -145LR, -145XR, -145MP, and -145EP airplanes. This AD requires repetitive inspections of the electrical connectors of the electric fuel pumps to detect discrepancies, application of anti-corrosion spray, replacement of all fuel pumps with improved fuel pumps, repetitive inspections after all six fuel pumps are replaced, and applicable corrective actions.

DATES: Effective July 7, 2005.

ADDRESSES: The AD docket contains the proposed AD, comments, and any final disposition. You may examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., Room PL-401, Washington, DC. This docket number is FAA-2005-21598; the directorate identifier for this docket is 2005-NM-121-AD.

FOR FURTHER INFORMATION CONTACT: Todd Thompson, Aerospace Engineer, International Branch, ANM-116, FAA, Transport Airplane Directorate, 1601 Lind Avenue, SW., Renton, Washington 98055-4056; telephone (425) 227-1175; fax (425) 227-1149.

SUPPLEMENTARY INFORMATION: On June 15, 2005, the FAA issued AD 2005-13-22, amendment 39-14159 (70 FR 36011, June 22, 2005), for all EMBRAER Model EMB-135 airplanes, and all Model EMB-145, -145ER, -145MR, -145LR, -145XR, -145MP, and -145EP airplanes. The AD requires repetitive inspections of the electrical connectors of the electric fuel pumps to detect discrepancies, application of anti-corrosion spray, replacement of all fuel pumps with improved fuel pumps, repetitive inspections after all six fuel pumps are replaced, and applicable corrective actions.

As published, the AD includes an incomplete applicability. Paragraph (c) of the AD omits Models EMB-145XR, -145MP, and -145EP airplanes, although those three models were included in all other references to the applicability throughout the preamble and regulatory language of the AD.

No other part of the regulatory information has been changed; therefore, the final rule is not republished in the Federal Register.

The effective date of this AD remains July 7, 2005.

PART 39—[AMENDED]

§ 39.13 [Corrected]

In the Federal Register of June 22, 2005, on page 36012, in the 3rd column, paragraph (c) of AD 2005-13-22 is corrected to read as follows:

* * * * *

(c) This AD applies to all EMBRAER Model EMB-135BJ, -135ER, -135KE, -135KL, and -135LR airplanes; and Model EMB-145, -145ER, -145MR, -145LR, -145XR, -145MP, and -145EP airplanes.

* * * * *

Issued in Renton, Washington, on July 11, 2005.
Ali Bahrami,
Manager, Transport Airplane Directorate, Aircraft Certification Service.

[FR Doc. 05-14169 Filed 7-20-05; 8:45 am]

BILLING CODE 4910-13-P